DEPARTMENT OF HOMELAND SECURITY

Coast Guard

33 CFR Part 100

[Docket No. USCG-2019-0284]

Special Local Regulation; Marine Events Within the Fifth Coast Guard District

AGENCY: Coast Guard, DHS.

ACTION: Notice of enforcement of regulation; change of enforcement date.

SUMMARY: The Coast Guard will enforce the special local regulation on the waters of the Atlantic Ocean, near Point Pleasant Beach, New Jersey, from 10 a.m. through 5 p.m. on June 15, 2019 and June 16, 2019. This action is necessary to ensure safety of life on the navigable waters of the United States during high speed boat racing. The purpose of this notice is to announce a change in the date in which the event is being held.

DATES: The regulations in 33 CFR 100.501 will be enforced from 10 a.m. through 5 p.m. on June 15, 2019 and June 16, 2019, for the special local regulation listed as (a)(7) in the Table to § 100.501.

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION: The Coast Guard will enforce the special local regulation in 33 CFR 100.501, table to § 100.501, (a)(7) for the regulated area located in the Atlantic Ocean near Point Pleasant Beach, NJ. The published enforcement period for this event is the 3rd Saturday and Sunday in May. We are announcing a change of enforcement date for this year's event with this notice of enforcement because the event will take place on the 3rd Saturday and Sunday in June. The Captain of the Port, Delaware Bay will be enforcing the Special Local Regulation as specified in § 100.501(c).

In addition to this notice of enforcement in the Federal Register, the Coast Guard will provide notification of this enforcement period via broadcast notice to mariners, Local Notice to Mariners, and on-scene notice by designated representative.

Dated: May 23, 2019.
Scott E. Anderson,
Captain, U.S. Coast Guard, Captain of the Port, Delaware Bay.

[FR Doc. 2019-11244 Filed 5-29-19; 8:45 am]

BILLING CODE 9110-04-P